DEPARTMENT OF HEALTH AND HUMAN SERVICES

National Institutes of Health

National Heart, Lung, and Blood Institute; Notice of Meeting

Pursuant to section 10(d) of the Federal Advisory Committee Act, as amended (5 U.S.C. Appendix 2), notice is hereby given of a meeting of the Sleep Disorders Research Advisory Board.

The meeting will be open to the public as indicated below, with attendance limited to space available. Individuals who plan to attend and need special assistance, such as sign language interpretation or other reasonable accommodations, should notify the Contact Person listed below in advance of the meeting.

The meeting will be closed to the public in accordance with the provisions set forth in section 552b(c)(6), Title 5 U.SC., for discussion of personal qualifications and performances, the disclosure of which would constitute a clearly unwarranted invasion of personal privacy.

Name of Committee: Sleep Disorders Research Advisory Board.

Date: June 14, 2006.

Open: 8:30 a.m. to 12 p.m.

Agenda: To discuss sleep research and education priorities and programs.

Place: National Institutes of Health, Building 31, 31 Center Drive, Conference Room 6C, Bethesda, MD 20892.

Closed: 12 p.m. to 12:15 p.m.

Agenda: To review and discuss personal qualifications and performance of individual Board members for election of chair position.

Place: National Institutes of Health, Building 31, 31 Center Drive, Conference Room 6C, Bethesda, MD 20892.

Open: 1 p.m. to 3:30 p.m.

Agenda: To discuss sleep research and education priorities and programs.

Place: National Institutes of Health, Building 31, 31 Center Drive, Conference Room 6C, Bethesda, MD 20892.

Contact Person: Michael J Twery, PhD, Acting Director, National Heart, Lung, and Blood Institute; National Institutes of Health, Division of Lung Diseases, 6701 Rockledge Drive, Suite 10116, Bethesda, MD 20892, 301/435-0202, twerym@nhlbi.nih.gov.

Information is also available on the Institute's/Center's homepage: http://www.nhlbi.nih.gov/meetings/index.htm, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: May 5, 2006.
Anna Snouffer,
Acting Director, Office of Federal Advisory Committee Policy.

[FR Doc. 06-4457 Filed 5-11-06; 8:45 am]

BILLING CODE 4140-01-M